FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than November 28, 2008.

A. Federal Reserve Bank of Minneapolis (Jacqueline G. King, Community Affairs Officer) 90 Hennepin Avenue, Minneapolis, Minnesota 55480-0291:

1. Claire L. Erickson Irrevocable Trust For The Benefit Of Kristi Erickson Kampmeyer and Descendants, the Claire L. Erickson Irrevocable Trust For The Benefit Of David B. Erickson and Descendants, and Gary Vander Vorst, as an individual and as co-trustee of the trusts, all of Hudson, Wisconsin, and Kristi Erickson Kampmeyer, Sunfish Lake, Minnsota, as an individual and as co-trustee and beneficiary of the Claire L. Erickson Irrevocable Trust For The Benefit Of Kristi Erickson Kampmeyer and Descendants, which collectively are part of a group acting in concert with David Erickson, Hudson, Wisconsin, to gain and/or retain control of Freedom Bancorporation, Inc., and thereby indirectly gain and/or retain control of Lake Area Bank, both of Lindstrom, Minnesota.

2. Claire L. Erickson Irrevocable Trust II For The Benefit Of Kristi Erickson Kampmeyer and Descendants, the Claire L. Erickson Irrevocable Trust For The Benefit Of Marilyn J. Kron and Descendants, and Gary Vander Vorst as an individual and as co-trustee of the trusts, all of Hudson, Wisconsin, which collectively are part of a group acting in concert with Kristi Erickson Kampmeyer, Sunfish Lake, Minnesota, and Marilyn J. Kron, Hudson, Wisconsin, to gain control of Waseca Bancshares, Inc., and thereby indirectly gain control of Roundbank, both of Waseca, Minnesota.

Board of Governors of the Federal Reserve System, November 7, 2008.
Robert deV. Frierson,
Deputy Secretary of the Board.

[FR Doc. E8-26926 Filed 11-12-08; 8:45 am]

BILLING CODE 6210-01-S